ENVIRONMENTAL PROTECTION AGENCY

[FRL-10021-38-Region 9]

United States-Mexico-Canada Agreement Mitigation of Contaminated Transboundary Flows Project

ACTION: Notice of intent to prepare an environmental impact statement; notice of virtual public scoping meetings; request for comments.

SUMMARY: In accordance with the National Environmental Policy Act, the U.S. Environmental Protection Agency (EPA) will prepare an environmental impact statement (EIS) for the proposed United States-Mexico-Canada Agreement (USMCA) Mitigation of Contaminated Transboundary Flows project (the Project). The USMCA Project involves the planning, design, and construction of infrastructure to reduce transboundary flows of untreated wastewater (sewage), trash, and sediment that routinely enter the U.S. from Mexico via the Tijuana River, its tributaries, and across the maritime boundary along the San Diego County coast. These transboundary flows impact public health and the environment and have been linked to beach closures along the San Diego County coast. EPA intends to evaluate project options located in the Tijuana River area in southern San Diego County, California in the U.S. and in the Tijuana region in Mexico. This notice initiates the scoping process by inviting comments from federal, state, and local agencies; Native American tribes; interested stakeholders; and the public to help identify the environmental issues and project options to be examined in the EIS. EPA is also providing notice of the public scoping meeting that is open to all interested parties.

DATES: The scoping meeting will be held virtually on April 20, 2021, 6:00 p.m. to 8:00 p.m. Pacific Daylight Time (PDT). A formal presentation will begin at 6:15 p.m., followed by the public comment period. Written public comments are due to EPA by 5:00 p.m. (PDT) on May 20, 2021. Please go to: https://www.epa.gov/sustainable-water-infrastructure/usmca-tijuana-river-watershed for more information regarding the public scoping meeting.

ADDRESSES: Written comments shall be submitted to the following email address: Tijuana-Transboundary-EIS@epa.gov.

FOR FURTHER INFORMATION CONTACT: Thomas Konner, 415-972-3408, Konner.Thomas@epa.gov.

SUPPLEMENTARY INFORMATION: Background: EPA, in accordance with the National Environmental Policy Act (42 U.S.C. 4321-4370h), the Council on Environmental Quality National Environmental Policy Act Implementing Regulations (40 CFR parts 1500-1508), and EPA Procedures for Implementing the National Environmental Policy Act (40 CFR part 6), will prepare an EIS for the USMCA Project. EPA invites public comment on the proposed scope of the EIS, the project options considered, specific environmental issues to be evaluated in the EIS, relevant information and analyses, and the potential impacts of the project options.

The San Diego-Tijuana region has faced persistent transboundary flows of contaminated wastewater originating in Mexico for many years. The three primary entryways of these transboundary flows into the U.S. are in coastal waters of the Pacific Ocean, the Tijuana River, and tributaries flowing north through canyons to the Tijuana River. Seasonal marine currents cause coastal discharges of largely untreated wastewater (sewage) from the Tijuana area to migrate north along the Pacific Ocean coast into the U.S. These discharges impact southern San Diego County beaches, especially during the summer. Additionally, transboundary flows in the Tijuana River and its canyon tributaries routinely reach the U.S., bringing untreated wastewater (sewage), trash, and sediment pollution into the U.S. These contaminated flows can reach the Pacific Ocean through the Tijuana River Estuary and migrate north along the coast, compounding the impacts of coastal discharges from the Tijuana area. Collectively, these polluted transboundary flows impact the environment and public health in communities along the border and the coast, public access to beaches and recreational opportunities in southern California, and the personnel and activities of the U.S. Customs and Border Protection and U.S. Navy.

For several years, EPA has engaged with agencies, elected officials, and stakeholder groups in the San Diego-Tijuana region in both the U.S. and Mexico to address transboundary pollution issues. In January 2020, Congress passed the USMCA Implementation Act, which appropriated funds to EPA under Title IX of the Act for implementation of wastewater infrastructure projects at the U.S.-Mexico border. Subtitle B, Section 821 of the Act authorized EPA to plan, design, and construct wastewater (including stormwater) treatment projects in the Tijuana River area. Per USMCA legislation, EPA established a steering group consisting of federal, state, and local Eligible Public Entities and solicited their input in identifying a set of project options to be considered for evaluation in an EIS. It is possible that EPA's Border Water Infrastructure Program may also be utilized to fund and carry out activities under this action.

Purpose and Need for the Proposed Action: In accordance with the Clean Water Act and the USMCA Implementation Act, the purpose and need of this action is to reduce transboundary flows from Tijuana that cause adverse public health and environmental impacts in the Tijuana River area and neighboring coastal areas in the U.S. as described in the preceding section.

Preliminary Proposed Action and Alternatives: The proposed action will include projects that address the purpose and need stated above by:

• Reducing the generation and/or discharge of contaminated flows from point and nonpoint sources of pollution in the Tijuana region,

• Improving the collection and/or treatment of contaminated flows in the Tijuana region before they reach the U.S.-Mexico border, and/or

• Improving the collection and/or treatment of contaminated transboundary flows in the U.S.

EPA has identified a set of 10 project options that have the potential (individually or in combination) to address the purpose and need stated above. While EPA has not yet identified the alternatives to be evaluated in the EIS, EPA anticipates that each alternative (including the preferred alternative) will consist of one or more project options. These 10 project options are: (1) New Tijuana River Diversion System in the U.S. and Treatment in the U.S.; (2) Expand and Upgrade Tijuana River Diversion System in Mexico and Provide Treatment in the U.S.; (3) Treat Wastewater from the International Collector at the South Bay International Wastewater Treatment Plant (ITP); (4) Shift Wastewater Treatment of Canyon Flows to U.S. (via Expanded ITP or South Bay Water Reclamation Plant [SBWRP]) to Reduce Flows to San Antonio de los Buenos Wastewater Treatment Plant (SAB); (5) Enhance Mexico Wastewater Collection System to Reduce Flows into Tijuana River; (6) Construct New Infrastructure to Address Trash and Sediment; (7) Divert or Reuse Treated Wastewater from Existing Wastewater Treatment Plants in Mexico to Reduce Flows into the Tijuana River; (8) Upgrade SAB to Reduce Untreated Wastewater to Coast; (9) Treat Wastewater from the International Collector at the SBWRP; and (10) Sediment and Trash Source Control. Descriptions of the 10 project options, some of which encompass multiple sub-projects and variations, can be found on the project website at https://www.epa.gov/sustainable-water-infrastructure/usmca-tijuana-river-watershed. EPA is currently evaluating the technical and financial feasibility of each project option and may decide to pursue one or more of these project options or subcomponents of these options through a separate NEPA process. EPA will also evaluate a No-Action alternative in the EIS. Under the No-Action alternative, EPA would not construct any of the above project options to address transboundary flows from Mexico to the Tijuana River area or neighboring coastal areas in the U.S.

Summary of Expected Impacts: The proposed action is expected to have beneficial impacts to public safety and water quality in the Tijuana River area and the neighboring coastal areas. The project options cover a large geographic area and may potentially impact a broad range of resource areas including air quality, water resources, hazardous and toxic material and waste, ambient sound, biological resources (including critical habitat), geology and soils, health and safety, land and shoreline use, recreation, aesthetics, historical and cultural resources, transportation, public services and utilities, climate change, and socioeconomic resources (including environmental justice). The effects of these expected impacts will be analyzed in the EIS.

Anticipated Permits and Authorization: The proposed action may require federal authorizations and permits pursuant to the Endangered Species Act, the Clean Water Act, the National Historic Preservation Act, and the Coastal Zone Management Act.

Schedule for the Decision-Making Process: The EIS is expected to be completed no later than 24 months from the publication of this notice in the Federal Register. Based on the record of decision and the selected alternative, EPA will determine project award and construction schedules as appropriate.

Public Scoping Process: EPA has established a 45-day public comment period for the scoping process. The public scoping period begins with the publication of this Notice and concludes May 20, 2021. EPA is requesting written comments from federal, state, and local governments, industry, non-governmental organizations, and the general public on:

• The scope of this EIS;

• The range of project options considered;

• Identification of potential alternatives, information, and analyses relevant to the proposed action;

• Identification of reasonably foreseeable environmental trends and planned actions in the project area(s);

• Specific environmental issues to be evaluated in the EIS; and

• The potential impacts of the proposed project options.

The scoping meeting will be held virtually on April 20, 2021. Consult the Dates section above for further information on the scoping meeting. All interested parties are encouraged to attend.

With this Notice of Intent, EPA is asking federal, state, Native American, and local agencies with jurisdiction or special expertise with respect to environmental issues in the project area to formally cooperate with EPA in the preparation of the EIS.

Estimated Date of Draft EIS Release: Once the scoping process is complete, EPA will prepare a draft EIS and will publish a Federal Register notice announcing its public availability. EPA will provide the public with an opportunity to review and comment on the draft EIS. After EPA considers those comments, EPA will prepare the final EIS and similarly announce its availability and solicit public review and comment. Comments received during the draft EIS review period will be made available in the final EIS. The draft EIS is expected to be released in December 2021.

Dated: March 26, 2021.
Deborah Jordan,
Acting Regional Administrator, Region 9.

[FR Doc. 2021-06903 Filed 4-2-21; 8:45 am]

BILLING CODE 6560-50-P